DEPARTMENT OF THE INTERIOR

National Park Service

[N6542; NPS-WASO-NAGPRA-NPS0041130; PPWOCRADN0-PCU00RP14.R50000]

Notice of Intended Repatriation: William S. Webb Museum of Anthropology, University of Kentucky, Lexington, KY

AGENCY: National Park Service, Interior.

ACTION: Notice.

SUMMARY: In accordance with the Native American Graves Protection and Repatriation Act (NAGPRA), the William S. Webb Museum of Anthropology, University of Kentucky (WSWM) intends to repatriate certain cultural items that meet the definition of unassociated funerary objects and that have a cultural affiliation with the Indian Tribes or Native Hawaiian organizations in this notice.

DATES: Repatriation of the cultural items in this notice may occur on or after October 27, 2025.

ADDRESSES: Send additional, written requests for repatriation of the cultural items in this notice to Dr. Celise Chilcote-Fricker, William S. Webb Museum of Anthropology, University of Kentucky, 1020 Export Street, Lexington, KY 40504, email celise.fricker@uky.edu.

SUPPLEMENTARY INFORMATION: This notice is published as part of the National Park Service's administrative responsibilities under NAGPRA. The determinations in this notice are the sole responsibility of the WSWM, and additional information on the determinations in this notice, including the results of consultation, can be found in the summary or related records. The National Park Service is not responsible for the determinations in this notice.

Abstract of Information Available

A total of 50 cultural items have been requested for repatriation.

The 13 unassociated funerary objects are 11 dog burials and two antler bannerstones. Site 15McL04, the Barrett site, was excavated from November 1938 to July 1939 by University of Kentucky archaeologists under contract to the Works Progress Administration. No known hazardous substances are present.

A total of six cultural items have been requested for repatriation. The six unassociated funerary objects are one bone awl, one sherd, one sandstone tablet, one ceramic effigy pipe, one bi-conoidal pipe and one turtle shell pendant. Site 15McL19, the Kirtley site, was excavated in 1940 by University of Kentucky Museum of Anthropology staff under contract to the Works Progress Administration. No known hazardous substances are present.

A total of seven cultural items have been requested for repatriation. The seven unassociated funerary objects are six dog burials and one lithic pendant. Site 15McL7, the Butterfield site, was excavated from March to April 1939 by University of Kentucky archaeologists under contract to the Works Progress Administration. No known hazardous substances are present.

A total of 24 cultural items have been requested for repatriation. The 24 unassociated funerary objects are three lots charcoal, eight soil samples, 11 dog burials, one projectile point/knife and one stone pestle. Site 15McL12, the Kirkland site, was excavated from September to November 1938 by University of Kentucky archaeologists under contract to the Works Progress Administration. No known hazardous substances are present.

Determinations

The WSWM has determined that:

• The 50 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and the Absentee-Shawnee Tribe of Indians of Oklahoma; Cherokee Nation; Eastern Band of Cherokee Indians; Eastern Shawnee Tribe of Oklahoma; Shawnee Tribe; and the United Keetoowah Band of Cherokee Indians in Oklahoma.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 27, 2025. If competing requests for repatriation are received, the WSWM must determine the most appropriate requestor prior to repatriation. Requests for joint repatriation of the cultural items are considered a single request and not competing requests. The WSWM is responsible for sending a copy of this notice to the Indian Tribes and Native Hawaiian organizations identified in this notice and to any other consulting parties.

Authority: Native American Graves Protection and Repatriation Act, 25 U.S.C. 3004 and the implementing regulations, 43 CFR 10.9.

Dated: September 11, 2025.
Melanie O'Brien,
Manager, National NAGPRA Program.

[FR Doc. 2025-18582 Filed 9-24-25; 8:45 am]

BILLING CODE 4312-52-P